DEPARTMENT OF TRANSPORTATION

Federal Aviation Administration

14 CFR Part 71

[Airspace Docket No. 00-ASO-32]

Amendment of Class D Airspace; Cocoa Patrick AFB, FL, and Class E5 Airspace: Melbourne, FL

AGENCY: Federal Aviation Administration (FAA), DOT.

ACTION: Final rule.

SUMMARY: This action makes a technical amendment to the Class D Airspace description at Cocoa Patrick AFB, FL, and the Class E5 Airspace at Melbourne, FL, by changing the name from the Melbourne Regional to the Melbourne International Airport.

EFFECTIVE DATE: 0901 UTC, November 30, 2000.

FOR FURTHER INFORMATION CONTACT: Nancy B. Shelton, Manager, Airspace Branch, Air Traffic Division, Federal Aviation Administration, P.O. Box 20636, Atlanta, Georgia 30320; telephone (404) 305-5627.

SUPPLEMENTARY INFORMATION:

History

The name of the Melbourne Regional Airport, FL, has been changed to the Melbourne International Airport. Therefore, the descriptions of the Class D airspace at Cocoa Patrick AFB, FL, and the Class E5 airspace at Melbourne, FL, must be amended to reflect this change. This rule will become effective on the date specified in the EFFECTIVE DATE section. Since this action has no impact on the users of the airspace in the vicinity of the Cocoa Patrick AFB and the Melbourne International Airports, notice and public procedure under 5 U.S.C. 553(b) are unnecessary.

The Rule

This amendment to Part 71 of the Federal Aviation Regulations (14 CFR part 71) amends the Class D airspace descriptions at Cocoa Patrick AFB, FL, and the Class E4 airspace description at Melbourne, FL. Class D airspace designations and Class E5 airspace designations are published in paragraph 5000 and paragraph 6005, respectively, of FAA Order 7400.9G dated September 1, 1999, and effective September 16, 1999, incorporated by reference in 14 CFR 71.1. The airspace designations in this action will appear subsequently in this order.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR Part 71 as follows:

PART 71—DESIGNATION OF CLASS A, CLASS B, CLASS C, CLASS D AND CLASS E AIRSPACE AREAS; AIRWAYS; ROUTES; AND REPORTING POINTS

1. The authority citation for 14 CFR Part 71 continues to read as follows:

Authority: 49 U.S.C. 106(g); 40103, 40113, 40120; EO 10854, 24 FR 9565, 3 CFR, 1959-1963 Comp., p. 389; 14 CFR 11.69.

§ 71.1 [Amended]

2. The incorporation by reference in 14 CFR 71.1 of Federal Aviation Administration Order 7400.9G, Airspace Designations and Reporting Points, dated September 1, 1999, and effective September 16, 1999, is amended as follows:

Paragraph 5000 Class D Airspace.

* * * * *

ASO FL D Cocoa Patrick AFB, FL [Revised]

Cocoa, Patrick Air Force Base, FL

(Lat 28°14′22″N, long 80°36′27″W)

Melbourne International Airport

(Lat. 28°06′10″N, long. 80°38′45″W)

That airspace extending upward from the surface to and including 2,500 feet MSL within a 5.3-mile radius of Patrick AFB; excluding the portion south of a line connecting the 2 point of intersection within a 4.3-mile radius circle centered on Melbourne International Airport. This Class D airspace area is effective during the specific dates and times established in advance by a Notice to Airmen. The effective date and time will thereafter be continuously published in the Airpoft/Facility Directory.

* * * * *

Paragraph 6005 Class E airspace areas extending upward from 700 feet or more above the surface of the earth.

* * * * *

ASO FL E5 Melbourne, FL [Revised]

Melbourne International Airport, FL

(Lat 28°06′10″N, long. 80°38′45″W)

Patrick AFB

(Lat. 28°14′22″N, long. 80°36′27″W)

That airspace extending upward from 700 feet above the surface within 6.8 radius of the Melbourne International Airport and within a 7-mile radius of Patrick AFB.

* * * * *

Issued in College Park, Georgia, on August 10, 2000.
Wade T. Carpenter,
Acting Manager, Air Traffic Division, Southern Region.

[FR Doc. 00-21817 Filed 9-1-00; 8:45 am]

BILLING CODE 4910-13-M